DEPARTMENT OF COMMERCE

National Oceanic and Atmospheric Administration

[I.D. 092004E]

Endangered Species; File No. 1501 and File No. 1506

AGENCY: National Marine Fisheries Service (NMFS),National Oceanic and Atmospheric Administration (NOAA), Commerce.

ACTION: Receipt of applications for permits.

SUMMARY: Notice is hereby given that the following individuals have applied in due form for permits to conduct scientific research on endangered and threatened sea turtles: Dr. Allen M. Foley,Florida Fish and Wildlife Conservation Commission, Fish and Wildlife Research Institute, Jacksonville Field Laboratory, 6134 Authority Avenue,Building 200, Jacksonville, Florida 32221 (File No. 1501); and Dr. Blair E.Witherington, Florida Fish and Wildlife Conservation Commission, Fish and Wildlife Research Institute, Melbourne Beach Field Laboratory, 9700 South A1A, Melbourne Beach, Florida 32951 (File No. 1506).

DATES: Written or telefaxed comments must be received on or before November 8, 2004.

ADDRESSES: The applications and related documents are available for review upon written request or by appointment in the following office(s):

Permits, Conservation and Education Division, Office of Protected Resources, NMFS, 1315 East-West Highway, Room 13705, Silver Spring, MD 20910; phone (301)713-2289; fax (301)713-0376; and

Southeast Region, NMFS, 9721 Executive Center Drive North, St.Petersburg, FL 33702-2432; phone (727)570-5301; fax(727)570-5320.

Written comments or requests for a public hearing on these applications should be mailed to the Chief, Permits, Conservation and Education Division, F/PR1, Office of Protected Resources, NMFS, 1315 East-West Highway, Room 13705, Silver Spring, MD 20910. Those individuals requesting a hearing should set forth the specific reasons why a hearing on the particular request would be appropriate.

Comments may also be submitted by facsimile at (301)713-0376,provided the facsimile is confirmed by hard copy submitted by mail and postmarked no later than the closing date of the comment period.

Comments may also be submitted by e-mail. The mailbox address for providing email comments is NMFS.Pr1Comments@noaa.gov.Include in the subject line of the e-mail comment the following document identifier: either File No. 1501 or File No. 1506.

FOR FURTHER INFORMATION CONTACT: Jennifer Jefferies or Patrick Opay, (301)713-2289.

SUPPLEMENTARY INFORMATION: The subject permits are requested under the authority of the Endangered Species Act of 1973, as amended (ESA; 16 U.S.C. 1531 et seq.) and the regulations governing the taking, importing, and exporting of endangered and threatened species (50 CFR 222-226).

File No. 1501: Dr. Foley seeks authorization to capture and track loggerhead (Caretta caretta), green (Chelonia mydas), Kemp's ridley (Lepidochelys kempii), and hawksbill (Eretmochelys imbricata) sea turtles for two separate projects in Florida Bay. The first project would continue an on-going long-term study of all four species in which, annually, up to 175 adult and juvenile loggerheads, 20 adult and juvenile greens, 20 adult and juvenile Kemp's ridley, and 10 adult and juvenile hawksbill sea turtles would be captured by hand, measured, weighed, examined for tumors,photographed, Passive Integrated Transponder (PIT) and flipper tagged,blood sampled, marked on the carapace with a white laminating gel and subsequently released. The loggerhead sea turtles would also have a skin sample taken. This work would be conducted for five years from permit issuance during the months of June and July. A second study would be conducted on loggerhead sea turtles in Florida Bay and in a nearby laboratory: annually, up to 50 adult loggerhead sea turtles would be captured by hand, measured, weighed, examined for tumors, photographed, PIT and flipper tagged, skin and blood sampled, and marked on the carapace with a white laminating gel in the field. The turtles would then be transported by boat to the Keys Marine Lab and held for a maximum of 24 hours. During this time, the researchers would perform ultrasounds, testicular biopsies,and laparoscopy. The turtles would then be transported back to the capture site and released. A subset of 15 sea turtles would also be tagged with a combination of a satellite, sonic and temperature-depth recorder. This research would be conducted for five years from issuance of the permit during the months of February and March.

File No. 1506: Dr. Witherington seeks authorization to study neonate and juvenile sea turtles in the waters of the Gulf of Mexico and the Atlantic Ocean off the coast of Florida. Annually, up to 250 neonate and juvenile loggerheads, 10 neonate and juvenile greens, five neonate and juvenile hawksbill, two neonate and juvenile Kemp's ridley, and two neonate and juvenile leatherback (Dermochelys coriacea) sea turtles would be captured via long-handled dip nets, handled, measured, and released. A subset of up to 50 neonate and juvenile loggerhead sea turtles would be transported less than five hours to a nearby port, held for 12 hours, and then transported less than four hours to an imaging center where they would be held for no more than four days and examined for plastic and tar loads with either a veterinary high-resolution magnetic resonance interferometry instrument or a computerized tomography. The turtles would then be returned to the point of capture and released. Feces samples would also be collected during the holding period. These activities would be authorized for five years from permit issuance.

Dated: October 1, 2004.
Carrie W. Hubard,
Acting Chief, Permits, Conservation and Education Division, Office of Protected Resources, National Marine Fisheries Service.

[FR Doc. 04-22730 Filed 10-7-04; 8:45 am]

BILLING CODE 3510-22-S